NUCLEAR REGULATORY COMMISSION

10 CFR Part 72

RIN 3150-AL18

List of Approved Spent Fuel Storage Casks: Holtec International HISTORM 100 Cask System, Certificate of Compliance No. 1014, Renewed Amendment No. 18

Correction

In rule document 2024-19801 appearing on pages 72304 through 723095, in the issue of Thursday, September 5, 2024, make the following correction:

On page 72305, in the first column, on the 41st line, change “September 26, 2024,” to “October 7, 2024,”

[FR Doc. C1-2024-19801 Filed 9-26-24; 8:45 am]

BILLING CODE 0099-10-D